DEPARTMENT OF THE INTERIOR

Fish and Wildlife Service

Notice of Availability for the Comprehensive Conservation Plan and Finding of No Significant Impact for the Flattery Rocks, Quillayute Needles, and Copalis National Wildlife Refuges, Clallam, Jefferson, and Grays Harbor Counties, WA

AGENCY: Fish and Wildlife Service, Interior.

ACTION: Notice of availability.

SUMMARY: The Fish and Wildlife Service (Service) has completed a Comprehensive Conservation Plan (CCP) and Finding of No Significant Impact (FONSI) for the Flattery Rocks, Quillayute Needles, and Copalis National Wildlife Refuges (Washington Islands Refuges, or Refuges). The CCP was developed to provide a foundation for the management and use of the Washington Islands Refuges. The Service is furnishing this notice to advise other agencies and the public of the availability of the CCP and FONSI, and the decision to implement Alternative B as described in the CCP. The Service's Regional Director for the Pacific Region selected Alternative B for managing the Refuges for the next 15 years. The Washington Islands Refuges are located off the Pacific Coast of Washington.

DATES: The CCP and FONSI are now available. Implementation of the CCP may begin immediately.

ADDRESSES: Printed copies of the CCP and FONSI are available for viewing at Washington Maritime National Wildlife Refuge Complex Headquarters, 33 S. Barr Road, Port Angeles, WA 98362, and may be obtained by visiting or writing to the Refuge Complex. These documents are also available for viewing and downloading on the Internet at http://pacific.fws.gov/planning.

FOR FURTHER INFORMATION CONTACT: Kevin Ryan, Project Leader, Washington Maritime National Wildlife Refuge Complex, phone (360) 457-8451.

SUPPLEMENTARY INFORMATION: The Washington Islands Refuges are part of the National Wildlife Refuge System administered by the Service. The National Wildlife Refuge System Administration Act of 1966 (Refuge Administration Act), as amended, requires all units of the National Wildlife Refuge System to be managed in accordance with an approved CCP. A CCP provides management direction, and identifies refuge goals, objectives, and strategies for achieving refuge purposes. We prepared the CCP and FONSI for the Washington Islands Refuges pursuant to the National Environmental Policy Act (NEPA) of 1969 (42 U.S.C. 4321-4370d), as amended, and its implementing regulations, the Refuge Administration Act, and Service policies.

The Washington Islands Refuges are located in Clallam, Jefferson, and Grays Harbor Counties, Washington. Planning for the Refuges was conducted together because many of the same physical characteristics, management issues, and conservation opportunities occur on, or are relevant to the management of each of the Refuges.

During the CCP planning process for the Refuges many elements were considered, including wildlife management and habitat protection, off-refuge wildlife-dependent recreational and educational opportunities, and coordination with tribal, State, and Federal agencies and other interested groups. The Draft CCP and associated Environmental Assessment identified and evaluated two alternatives for managing the Refuges. The Draft CCP was available for a 30-day public review and comment period, which occurred May 31 through June 30, 2005 (May 31, 2005, 70 FR 30967). The Service received 24 comment letters on the Draft CCP, which were incorporated into, or otherwise responded to in the final CCP. No substantive changes where required to address public comments.

By implementing the CCP, the Service will minimize disturbance to wildlife, reduce contaminants, enhance oil spill response preparedness, initiate and participate in cooperative monitoring and research, and enhance the Refuges' public education program.

Wildlife disturbances will be minimized by enforcing access restrictions to Refuge islands, educating boaters and pilots about wildlife disturbances, promoting a voluntary 200-yard boat-free zone, pursuing tideland leases with the State, and enforcing wildlife disturbance regulations. Working with partners to reduce impacts from oil spills and remove derelict fishing gear and other wildlife hazards is a high priority for the Refuges. Long-term wildlife monitoring efforts will continue, and Refuge staff will assist with developing a monitoring manual for seabirds. The Service will develop partnerships to pursue joint research projects and develop and staff an off-refuge interpretive center. The proposal in the CCP for eradication of European rabbits on Destruction Island will be addressed in a separate planning effort with full public involvement.

Dated: June 14, 2007.
Renne R. Lohoefener,
Regional Director, Region 1, Portland, Oregon.

[FR Doc. E7-15883 Filed 8-13-07; 8:45 am]

BILLING CODE 4310-55-P